DEPARTMENT OF THE INTERIOR

Fish and Wildlife Service

[FWS-R2-ES-2018-N006; FXES11130100000C4-189-FF02ENEH00]

Endangered and Threatened Wildlife and Plants; Initiation of 5-Year Status Reviews of 38 Species in the Southwest Region (Arizona, New Mexico, Oklahoma, and Texas)

AGENCY: Fish and Wildlife Service, Interior.

ACTION: Notice of initiation of reviews; request for information.

SUMMARY: We, the U.S. Fish and Wildlife Service, are conducting 5-year status reviews under the Endangered Species Act of 1973, as amended (Act), of 38 animal and plant species. A 5-year status review is based on the best scientific and commercial data available at the time of the review; therefore, we are requesting submission of any such information that has become available since the last review for the species.

DATES: To ensure consideration, we are requesting submission of new information no later than July 2, 2018. However, we will continue to accept new information about any listed species at any time.

ADDRESSES: For how to submit information, see Request for Information and “How Do I Ask Questions or Provide Information?” in the SUPPLEMENTARY INFORMATION section.

FOR FURTHER INFORMATION CONTACT: For information on a particular species, contact the appropriate person or office listed in the table in the SUPPLEMENTARY INFORMATION section.

SUPPLEMENTARY INFORMATION:

Why do we conduct a 5-year review?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Our regulations at 50 CFR 424.21 require that we publish a notice in the Federal Register announcing those species under active review. For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for the species.

Which species are under review?

This notice announces our active review of the species listed in the table below.

Common name | Scientific name | Listing status | Current range | Final listing rule (Federal Register citation and publication date) | Contact person, phone, email | Contact person's U.S. mail address
ANIMALS
Alamosa springsnail | Tyronia alamosae | Endangered | New Mexico—U.S.A | 56 FR 49646; 09/30/1991 | Susan Millsap, Field Supervisor, New Mexico Ecological Services Field Office, 505-761-4781; Susan_Millsap@fws.gov | U.S. Fish and Wildlife Service, 2105 Osuna Road NE, Albuquerque, NM 87113-1001.
Beautiful shiner | Cyprinella formosa | Threatened | Arizona—U.S.A. Mexico | 49 FR 34490; 08/31/1984 | Bill Radke, Refuge Manager, San Bernardino National Wildlife Refuge, 520/364-2104; Bill_Radke@fws.gov | U.S. Fish and Wildlife Service, Attention 5-year Review, San Bernardino National Wildlife Refuge, P.O. Box 3509, Douglas, Arizona 85607.
Bee Creek Cave harvestman | Texella reddelli | Endangered | Texas—U.S.A | 53 FR 33 29; 09/16/1988 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
Coffin Cave mold beetle | Batrisodes texanus | Endangered | Texas—U.S.A | 53 FR 36029; 09/16/1988 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
Gila topminnow | Poeciliopsis occidentalis | Endangered | Arizona, New Mexico—U.S.A., Mexico | 32 FR 4001; 03/11/1967 | Steve Spangle, Field Supervisor, Arizona Ecological Services Office, 602-242-0210; Steve_Spangle@fws.gov | U.S. Fish and Wildlife Service, 9828 North 31st Avenue, #C3, Phoenix, Arizona 85051-2517.
Gila trout | Oncorhynchus gilae | Threatened with 4(d) rule | Arizona, New Mexico— U.S.A | 32 FR 4001; 03/11/1967 | Susan Millsap, Field Supervisor, New Mexico Ecological Services Field Office, 505-761-4781; Susan_Millsap@fws.gov | U.S. Fish and Wildlife Service, 2105 Osuna Road NE, Albuquerque, NM 87113-1001.
Gulf Coast Jaguarundi | Herpailurus (=Felis) yagouaroundi cacomitli | Endangered | Texas—U.S.A., Mexico | 41 FR 24062; 06/14/1976 | Chuck Ardizzone, Project Leader, Texas Coastal Ecological Services, 281-286-8282; Chuck_Ardizzone@fws.gov | U.S. Fish & Wildlife Service, 17629 El Camino Real, Ste 211, Houston, TX 77058.
Houston toad | Bufo houstonensis | Endangered | Texas—U.S.A | 35 FR 16047; 10/13/1970 | Adam Zerrenner, Field Supervisor, Austin Ecological Services Field Office, 512-490-0057; Adam_Zerrenner@fws.gov | U.S. Fish and Wildlife Service, Austin Ecological Services Field Office, 10711 Burnet Road, Suite 200, Austin, Texas 78758.
Jaguar | Panthera onca | Endangered | Arizona, New Mexico—U.S.A., Mexico | 37 FR 6476; 03/28/1972 | Steve Spangle, Field Supervisor, Arizona Ecological Services Office, 602-242-0210; Steve_Spangle@fws.gov | U.S. Fish and Wildlife Service, 9828 North 31st Avenue, #C3, Phoenix, Arizona 85051-2517.
Kretschmarr Cave mold beetle | Texamaurops reddelli | Endangered | Texas—U.S.A | 53 FR 36029; 09/16/1988 | Adam Zerrenner, Field Supervisor, Austin Ecological Services Field Office, 512-490-0057; Adam_Zerrenner@fws.gov | U.S. Fish and Wildlife Service, 9828 North 31st Avenue, #C3, Phoenix, Arizona 85051-2517.
Little Colorado spinedace | Lepidomeda vittata | Threatened | Arizona—U.S.A | 32 FR 4001; 03/11/1967 | Steve Spangle, Field Supervisor, Arizona Ecological Services Office, 602-242-0210; Steve_Spangle@fws.gov | U.S. Fish and Wildlife Service, 9828 North 31st Avenue, #C3, Phoenix, Arizona 85051-2517.
Mexican long-nosed bat | Leptonycteris nivalis | Endangered | New Mexico, Texas—U.S.A., Mexico | 53 FR 38456; 09/30/1988 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
Mexican wolf | Canis lupus baileyi | Endangered | Entire in southwestern United States and northwest Mexico, except where included in an experimental population as set forth in 17.84(k) | 80 FR 2488; 01/16/2015 | Sherry Barrett, Mexican Wolf Recovery Coordinator, 505-761-4748; Sherry_Barrett@fws.gov | U.S. Fish and Wildlife Service, 2105 Osuna Road NE, Albuquerque, NM 87113-1001.
|  | Experimental population, nonessential | Arizona, New Mexico—U.S.A. as set forth in 17.84(k) | 80 FR 2512; 01/16/2015
New Mexico meadow jumping mouse | Zapus hudsonius luteus | Endangered | Arizona, Colorado, New Mexico—U.S.A | 79 FR 33119; 06/10/2014 | Susan Millsap, Field Supervisor, New Mexico Ecological Services Field Office, 505-761-4781; Susan_Millsap@fws.gov | U.S. Fish and Wildlife Service, 2105 Osuna Road NE, Albuquerque, NM 87113-1001.
New Mexico ridge-nosed rattlesnake | Crotalus willardi obscurus | Threatened | Arizona, New Mexico—U.S.A., Mexico | 43 FR 34476; 08/21/1978 | Susan Millsap, Field Supervisor, New Mexico Ecological Services Field Office, 505-761-4781; Susan_Millsap@fws.gov | U.S. Fish and Wildlife Service, 2105 Osuna Road NE, Albuquerque, NM 87113-1001.
ocelot | Leopardus (=Felis) pardalis | Endangered | Arizona, Texas—U.S.A., Mexico | 37 FR 6476; 03/30/1972 | Chuck Ardizzone, Project Leader, Texas Coastal Ecological Services, 281-286-8282; Chuck_Ardizzone@fws.gov | U.S. Fish & Wildlife Service, 17629 El Camino Real, Ste 211, Houston, TX 77058.
Ouachita rock-pocketbook | Arkansia wheeleri | Endangered | Arkansas, Oklahoma—U.S.A | 56 FR 54950; 10/23/1991 | Jonna Polk, Field Supervisor, Oklahoma Ecological Services Field Office, 918-382-4504; Jonna_Polk@fws.gov | U.S. Fish and Wildlife Service, 9014 East 21st Street, Tulsa, OK 74129.
Pecos gambusia | Gambusia nobilis | Endangered | New Mexico, Texas—U.S.A | 35 FR 16047; 10/13/1970 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
Rio Grande silvery minnow | Hybognathus amarus | Endangered | New Mexico, Texas—U.S.A., Mexico | 59 FR 36988; 07/20/1994 | Susan Millsap, Field Supervisor, New Mexico Ecological Services Field Office, 505-761-4781; Susan_Millsap@fws.gov | U.S. Fish and Wildlife Service, 2105 Osuna Road NE, Albuquerque, NM 87113-1001.
|  | Experimental population, nonessential | Texas—U.S.A | 59 FR 74357; 12/08/2008
San Marcos gambusia | Gambusia georgei | Endangered | Texas—U.S.A | 45 FR 47355; 07/14/1980 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
|  | Endangered | Arizona—U.S.A., Mexico | 32 FR 4001; 03/11/1967
Sonoran pronghorn | Antilocarpa Americana sonoriensis | Experimental population, nonessential | Arizona—U.S.A | 76 FR 25593; 05/05/2011; 03/11/1967 | Steve Spangle, Field Supervisor, Arizona Ecological Services Office, 602-242-0210; Steve_Spangle@fws.gov | U.S. Fish and Wildlife Service, 9828 North 31st Avenue, #C3, Phoenix, Arizona 85051-2517.
Tooth Cave ground beetle | Rhadine persephone | Endangered | Texas—U.S.A | 53 FR 36029; 09/16/1988 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
Tooth Cave pseudoscorpion | Tartarocreagris texana | Endangered | Texas—U.S.A | 53 FR 36029; 09/16/1988 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
Tooth Cave spider | Neoleptoneta myopica | Endangered | Texas—U.S.A | 53 FR 36029; 09/16/1988 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
Yaqui catfish | Ictalurus pricei | Threatened | Arizona—U.S.A. Mexico | 49 FR 34490; 08/31/1984 | Bill Radke, Refuge Manager, San Bernardino National Wildlife Refuge, 520/364-2104; Bill_Radke@fws.gov | U.S. Fish and Wildlife Service, Attention 5-year Review, San Bernardino National Wildlife Refuge, P.O. Box 3509, Douglas, Arizona 85607.
Yaqui chub | Gila purpurea | Endangered | Arizona—U.S.A. Mexico | 49 FR 34490; 08/31/1984 | Bill Radke, Refuge Manager, San Bernardino National Wildlife Refuge, 520/364-2104; Bill_Radke@fws.gov | U.S. Fish and Wildlife Service, Attention 5-year Review, San Bernardino National Wildlife Refuge, P.O. Box 3509, Douglas, Arizona 85607.
Yaqui topminnow (included in Gila topminnow) | Poeciliopsis occidentalis | Endangered | Arizona, New Mexico—U.S.A., Mexico | 32 FR 4001; 03/11/1967 | Steve Spangle, Field Supervisor, Arizona Ecological Services Office, 602-242-0210; Steve_Spangle@fws.gov | U.S. Fish and Wildlife Service, 9828 North 31st Avenue, #C3, Phoenix, Arizona 85051-2517.
PLANTS
Astragalus cremnophylax var. cremnophylax | sentry milk vetch | Endangered | Arizona—U.S.A. | 55 FR 50184; 12/05/1990 | Steve Spangle, Field Supervisor, Arizona Ecological Services Office, 602-242-0210; Steve_Spangle@fws.gov | U.S. Fish and Wildlife Service, 9828 North 31st Avenue, #C3, Phoenix, Arizona 85051-2517.
Callirohoe scabriuscula | Texas poppy mallow | Endangered | Texas—U.S.A | 46 FR 3184; 01/13/1981; deferred to 46 FR 40025; 08/06/1981 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
Coryphantha ramillosa | bunched Cory cactus | Threatened | Texas—U.S.A., Mexico | 44 FR 64247; 11/06/1979 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
Coryphantha scheeri var. robustispina | Pima pineapple cactus | Endangered | Arizona—U.S.A., Mexico | 58 FR 49875; 09/23/1993 | Steve Spangle, Field Supervisor, Arizona Ecological Services Office, 602-242-0210; Steve_Spangle@fws.gov | U.S. Fish and Wildlife Service, 9828 North 31st Avenue, #C3, Phoenix, Arizona 85051-2517.
Echinocereus chisoensis var. chisoensis | Chisos Mountain hedgehog cactus | Threatened | Texas—U.S.A | 53 FR 38453; 09/30/1988 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
Echinocereus triglochidiatus var. arizonicus | Arizona hedgehog cactus | Endangered | Arizona—U.S.A | 44 FR 61556; 10/25/1979 | Steve Spangle, Field Supervisor, Arizona Ecological Services Office, 602-242-0210; Steve_Spangle@fws.gov | U.S. Fish and Wildlife Service, 9828 North 31st Avenue, #C3, Phoenix, Arizona 85051-2517.
Echinomastus mariposensis | Lloyd's Mariposa cactus | Threatened | Texas—U.S.A., Mexico | 44 FR 64247; 11/06/1979 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200,Austin, Texas 78758.
Lilaeopsis schaffneriana var. recurva | Huachuca water umbel | Endangered | Arizona—U.S.A., Mexico | 62 FR 665; 01/06/1997 | Steve Spangle, Field Supervisor, Arizona Ecological Services Office, 602-242-0210; Steve_Spangle@fws.gov | U.S. Fish and Wildlife Service, 9828 North 31st Avenue, #C3, Phoenix, Arizona 85051-2517.
Phlox nivalis ssp. texensis | Texas trailing phlox | Endangered | Texas—U.S.A | 56 FR 49636, 09/30/1991 | Chuck Ardizzone, Project Leader, Texas Coastal Ecological Services, 281-286-8282; Chuck_Ardizzone@fws.gov | U.S. Fish & Wildlife Service, 17629 El Camino Real, Ste 211, Houston, TX 77058.
Potamogeton clystocarpus | Little aguja pondweed | Endangered | Texas—U.S.A | 56 FR 57844; 11/14/1991 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.
Styrax texanus | Texas snowbells | Endangered | Texas—U.S.A | 49 FR 40036; 10/12/1984 | Adam Zerrenner, Field Supervisor, Austin Ecological Services Field Office, General Office: 512-490-0057, Direct Line: 512-577-6594; Adam_Zerrenner@fws.gov | U.S. Fish and Wildlife Service, Austin Ecological Services Field Office, 10711 Burnet Road, Suite 200, Austin, Texas 78758.

Request for Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts. Individuals who are hearing impaired or speech impaired may call the Federal Relay Service at 800-877-8339 for TTY assistance.

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Completed and Active Reviews

A list of all completed and currently active 5-year reviews addressing species for which the Southwest Region of the Service has lead responsibility is available at http://www.fws.gov/southwest/es/ElectronicLibrary_Main.cfm (under “Select a Document Category,” select “5-Year Review”).

Authority

This document is published under the authority of the Endangered Species Act of 1973, as amended (16 U.S.C. 1531 et seq.).

Dated: April 2, 2018.
Amy L. Lueders,
Regional Director, Southwest Region, U.S. Fish and Wildlife Service.

[FR Doc. 2018-11675 Filed 5-30-18; 8:45 am]

BILLING CODE 4333-15-P